DEPARTMENT OF JUSTICE

National Institute Of Corrections

Solicitation for a Cooperative Agreement: Strategies for Women Executives in Corrections

AGENCY: National Institute of Corrections, U.S. Department of Justice.

ACTION: Solicitation for a cooperative agreement.

SUMMARY: The National Institute of Corrections (NIC) is soliciting proposals from organizations, groups, or individuals to enter into an 18-month cooperative agreement to update its 36-hour Executive Leadership for Women in Corrections program, newly titled Strategic Development of the Executive Woman. The award recipient will update the current training and ensure it supports the learning process, leadership styles, and required competencies for executive women in corrections. The award includes responsibility for the updated Instructional Theory into Practice (ITIP) formatted curriculum, the contracting and training of NIC-approved faculty, and the administration of participant expenses, including the dispersal of program acceptance letters, coordination of registration, lodging, meals, and transportation. The recipient will also be responsible for conducting, in collaboration with the NIC Research and Evaluation Division, an evaluation of the initial program delivery using the NIC training evaluation protocol. This should represent a minimal cost to the award recipient. The project will also address strategies for additional learning and networking upon training completion. The training is anticipated to begin no later than August 2011.

The pilot will be held at the National Center for Educational Development in Norman, OK. This has proven to be a favorable site in the past and represents the accommodations and amenities expected for future programming.

DATES: Applications must be received by 2 p.m. EDT on Friday, August 20, 2010.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will NOT be accepted. Electronic applications can be submitted only via http://www.grants.gov.

FOR FURTHER INFORMATION CONTACT: A copy of this announcement can be downloaded from the NIC web page at http://www.nicic.gov.

All technical or programmatic questions concerning this announcement should be directed to Evelyn Bush, Correctional Program Specialist, National Institute of Corrections. She can be reached at e1bush@bop.gov.

SUPPLEMENTARY INFORMATION: Overview: NIC's Executive Leadership for Women in Corrections program provides executive women leaders with critical competencies, self-awareness, and the confidence necessary to seek higher levels in an organization and perform their leadership responsibilities effectively. The program addresses three main objectives: Correctional leadership, barriers and promotional strategies, and career and life planning. Three assessment instruments (LSI, MBTI, and Change Style Indicator) with individual feedback, classroom presentations, and tabletop and outdoor activities center around the core set of developmental competencies. The developmental competencies were based on a gap analysis comparing the boss/peer/subordinate scores on each competency of the LEADERSHIP 360, a set of eight leadership abilities commonly found among most outstanding leaders. These scores were compared against the midrange point of a future leadership competency set. The result of this analysis provided the basis for three major competencies—strategy, communication, and consent—which are to be incorporated into NIC's new “Strategies for Women Executives in Corrections.”

Additionally, over the last five years, NIC's Executive Leadership for Women in Corrections program has kept current with recent trends such as those that appear in the multigenerational workforce and that are noted in the NIC Correctional Competencies publication.

Background: The National Institute of Corrections Prisons Division offered the first Executive Training for Women program in 1994. The program was designed to address both the personal and professional aspects of women's correctional leadership in a nontraditional profession. Through a two-part series, NIC has sought to close the gap for women executives in their knowledge, recognition of their value to the organization, and self and observer perception.

Although the past three decades have witnessed a tremendous increase in the number of women working in corrections, increasing numbers of women in the workforce have not been matched by corresponding advancement in executive and senior level leadership positions. Women are underrepresented in senior level (CEO) leadership positions across all professions, but they are significantly underrepresented in the corrections field. To further complicate the issue, studies have found that few women have had the same quantity and quality of leadership development opportunities and experiences as men, thus thwarting their ability to compete adequately for higher level positions.

By 2012, women will comprise 47.5% of the workforce. With the anticipated rise of women in the ranks of senior level positions, NIC continues to build upon the success of its programming for a women's-only environment, where gender barriers are eliminated and acceleration of learning is possible.

The occurrence of strategic partnerships within and between organizations is on the rise. In a time of a changing workforce, security issues, technology advances and new government regulations, it is imperative that organizations and individuals learn to adapt. Getting individuals to do things differently is the measure of success or failure. Approaching leadership strategically is a learned skill. Forward-looking organizations proactively seek ways to advance the leadership capacities of the women they promote, or intend to promote, to senior and executive administration.

Target Audience: Women who are senior, upper-level correctional managers serving in jails, prisons, and community corrections, functioning administratively at the level of warden or superintendent and above, and who wish to enter the ranks of chief executives of state departments of corrections.

Intended Program Results: This program will assist women leaders in understanding their value to, and involvement with, moving themselves and an organization forward. It is an acknowledgement for their way of learning and thinking, without judgment. It is to provide the tools necessary to become more self aware, more strategic in assessing and isolating critical problems, more mission driven, politically savvy, and adept at teaming with others for success. The program also takes into account the best learning environment, the best setting for the greatest outcome, and a way to close the gap for women executives in their knowledge, self-awareness, and observer's perception of their value to an organization.

Learning Outcomes: It is intended that leaders will: Acknowledge the need for, and rely upon, the support system of other professionals who can offer feedback and advice; develop appreciation for teams, teamwork and the application of strategic teaming; extend their abilities to evaluate themselves and address their needs for developing mastery of the skills required in executive leadership; and grow in their understanding of self.

Products and Deliverables: A training curriculum designed with ITIP model instruction, which will contain an instructor/facilitator's guide with associated tools, materials, and resources with a final, agreed upon curriculum delivered to NIC no later than December 31, 2011; a participant resource guide to be used in conjunction with all training activities; instructional aides and materials, including presentation slide shows, CDs, charts, handouts, case studies, assessments, etc. to support instruction and facilitation; and training delivery and facilitation of a 36-hour classroom training for 20 participants with blended learning tools.

Training Program Description: The training program will be announced on NIC's website with its list of other training courses. A description follows but may be downloaded online at http://nicic.gov/Library/023761.

Scope of Project: The recipient of this cooperative agreement award must, at a minimum, do the following within the scope of this project: (1) In collaboration with the NIC Research and Evaluation Division, conduct a survey to query senior executives regarding critical leadership competencies or sets that organizations should be developing, (2) In collaboration with the NIC Research and evaluation Division, conduct a survey to capture barriers that women and minorities face when seeking promotion to senior executive positions in corrections, and (3) Use the NIC publication “Correctional Leadership Competencies for the 21st Century” as a resource to build upon.

The narrative portion of the cooperative agreement application should include, at a minimum, (1) a clear description of women's learning orientations and the methodology that will be used to take these into consideration as part of the newly revised curriculum, (2) a brief summary that indicates the applicant's understanding of the purpose of this cooperative agreement, (3) two to three paragraphs that detail the applicant's understanding of the need for this program, (4) a brief paragraph that summarizes the project goals and objectives, (5) a clear description of the methodology that will be used to complete the project and achieve its goals, (6) a clearly developed work plan with measurable project milestones and timelines for the completion of each milestone, (7) a description of the qualifications of the applicant and each project staff, (8) a description of the staffing plan, including the role and time commitment for each project staff member and a statement from individual staff that he/she will be available to work on this project, and (9) a budget that details all costs for the project, shows consideration for all contingencies, and notes a commitment to work within the proposed budget. The application must also include a budget narrative that explains how all costs were determined.

Specific Requirements: The applicant will provide an example of several topics/modules that may be considered and their accompanying learning activity. The applicant must also demonstrate a recent working knowledge of leadership development programming specific to women. Experienced correctional professional(s) are expected to be on the project team. These person(s) can be project staff or consultants. The correctional experience cited as qualifications must be at the level of warden or above. Continuous consultation with the NIC Correctional Program Specialist (CPS) on both proposed curriculum content and training program strategies is necessary. The CPS will have final approval of both. The selected applicant will conduct a face-to-face training/planning meeting with the CPS and NIC-selected and approved trainers and/or faculty to deliver the program at least 60 days before the program start date and provide a climate of inclusion and support in which women can concentrate on the learning process. The awardee will be responsible for the preparation of all program training materials, negotiation, timely completion of faculty contracts, and coordination of all program site logistics. Participant/faculty lodging, meals, travel, and administration of the associated logistics are to be funded within this agreement, based on the complete meal package. Knowledge and previous use of level one and two evaluation methods is necessary. The use of blended learning tools, such as a live Web-based training environment or supplemental online information transfer, is expected.

Curriculum Specifications: The curriculum must be designed and developed, adhering to the following standards and specifications: (1) The curriculum and training design must be consistent with, and embrace the Instructional Theory into Practice (ITIP) model. A reference to this model can be found at http://nicic.gov/Library/010714;

(2) Written products are developed to support the training;

(3) The curriculum facilitation guide is written using a standard curriculum document format to include, at a minimum, module/sections and titles, performance objectives/expectations, a learning activities guide, practice/application activities, evaluation method and resources needed to conduct training activities; (4) Cited references support curriculum content and concepts; (5) Copyright permissions are secured for the use of copyright protected publications and materials with a minimum usage of three years; (6) All documents must be delivered electronically in both MS Word 2003 or higher and hard copy; (7) NIC will have final approval of the format, design, and organization of the curriculum documents.

Required Expertise: The successful applicant and/or project staff will possess knowledge, skills, and experience in the following areas: Program design, strategic processes, correctional organizational culture team dynamics, and change management. Demonstrated knowledge and experience with the dynamics affecting women in corrections is necessary. The applicant will provide an example of recent involvement in leadership development programming specific to women and possess knowledge and experience in curriculum development based on adult learning theory and the Instructional Theory into Practice (ITIP) format. Knowledge and expertise in a variety of instructional delivery strategies should utilize, but are not limited to, instructor led e-learning, including asynchronous computer/Web-based instructor led, synchronous Web-based, and social learning networks, etc. Skill in designing training curriculum linked to training objectives, knowledge of available training evaluation methods, and effective written and oral communication skills are necessary.

Review Considerations: Applications received under this announcement will be subject to the NIC Review Process. The criteria for the evaluation of each application will be as follows,

Programmatic (40%)

Are all the tasks adequately discussed? Is there a clear statement of how each of the tasks will be accomplished, including the staffing, resources, and strategies to be employed? Are there any innovative approaches, techniques, or design aspects proposed that will enhance the project?

Organizational (30%)

Do the skills, knowledge, and expertise of the organization and the proposed project staff demonstrate a high level of competency to carry out the tasks? Does the applicant organization have the necessary experience and organizational capacity to carry out all five goals of the project? Are the proposed project management and staffing plans realistic and sufficient to complete the project within the time frame?

Project Management/Administration (20%)

Does the applicant identify reasonable objectives, milestones, and measures to track progress? If consultants and/or partnerships are proposed, is there a reasonable justification for their inclusion in the project and a clear structure to insure effective coordination?

Fiscal (10%)

Is the proposed budget realistic, provide sufficient cost detail/narrative, and represent good value relative to the anticipated results?

Application Requirements: Applications should be concisely written, typed double spaced and reference the “NIC Funding Opportunity Number” and Title provided in this announcement. The application package must include: OMB Standard Form 424, Application for Federal Assistance; a cover letter that identifies the audit agency responsible for the applicant's financial accounts as well as the audit period or fiscal year that the applicant operates under (e.g., July 1 through June 30), an outline of projected costs, and the following forms: OMB Standard Form 424A, Budget Information—Non Construction Programs, OMB Standard Form 424B, Assurances—Non Construction Programs (available at http://www.grants.gov), and DOJ/NIC Certification Regarding Lobbying; Debarment, Suspension and Other Responsibility Matters; and Drug-Free Workplace Requirements (available at http://www.nicic.gov/Downloads/PDF/certif-frm.pdf.)

Applications may be submitted in hard copy, or electronically via http://www.grants.gov. If submitted in hard copy, there needs to be an original and three copies of the full proposal (program and budget narratives, application forms and assurances). The original should have the applicant's signature in blue ink. The program narrative text must be limited to 15 double-spaced pages, exclusive of resumes and summaries of experience. Please do not submit full curriculum vitae.

Authority: Public law 93-415.

Funds Available: NIC is seeking the applicant's best ideas regarding accomplishment of the scope of work and the related costs for achieving the goals of this solicitation. Funds (up to $100,000) may be used only for the activities that are linked to the desired outcome of the project.

This project will be a collaborative venture with the NIC Prisons Division.

Eligibility of Applicants: An eligible applicant is any private agency, educational institution, organization, individual or team with expertise in the areas described.

Review Considerations: Applications received under this announcement will be subjected to a 3- to 5-person NIC Peer Review Process.

Note: NIC will not award a cooperative agreement to an applicant who does not have a Dun and Bradstreet Database Universal Number (DUNS) and is not registered in the Central Contractor Registry.

A DUNS number can be received at no cost by calling the dedicated toll-free DUNS number request line at 1-800-333-0505 (if you are a sole proprietor, you would dial 1-866-705-5711 and select option 1).

Number of Awards: One.

NIC Funding Opportunity Number: 10P12. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2010-18962 Filed 8-2-10; 8:45 am]

BILLING CODE 4410-36-P